DEPARTMENT OF HEALTH AND HUMAN SERVICES

Centers for Disease Control and Prevention

Meeting of the Community Preventive Services Task Force (CPSTF)

AGENCY: Centers for Disease Control and Prevention (CDC), Department of Health and Human Services (HHS).

ACTION: Notice of meeting.

SUMMARY: The Centers for Disease Control and Prevention within the Department of Health and Human Services announces the next meeting of the Community Preventive Services Task Force (CPSTF) on June 10-11,2020.

DATES: The June meeting will be held on Wednesday, June 10, 2020, from 8:30 a.m. to 6:00 p.m. EDT and Thursday, June 11, 2020, from 8:30 a.m. to 5:00 p.m. EDT. Wednesday, June 10, 2020 will be a closed session to conduct internal CPSTF business related to its 2020 process for priority topics for 2021-2025.

ADDRESSES: The June CPSTF meeting will be held via web conference. Information regarding meeting logistics will be available on the Community Guide website (www.thecommunityguide.org) closer to the date of the meeting.

FOR FURTHER INFORMATION CONTACT: Onslow Smith, Office of the Associate Director for Policy and Strategy; Centers for Disease Control and Prevention, 1600 Clifton Road NE, MS-E-69, Atlanta, GA 30329, phone: (404)498-6778, email: CPSTF@cdc.gov.

SUPPLEMENTARY INFORMATION:

Meeting Accessibility: The June CPSTF meeting will be held virtually. The first day will consist of internal CPSTF business related to its 2020 process for establishing its priority topics for 2021-2025 and is closed to the public. The second day will consist of deliberations on systematic reviews of literature and is open to the public. All participants who would like to attend the second day must register by 5:00 p.m. EDT on Friday, June 5, 2020. Participants will receive registration confirmation with web conference meeting instructions within two days before the meeting.

To register for the second day, individuals should send an email to CPSTF@cdc.gov and include the following information: name, title, organization name, organization address, phone, email. CDC will email web conference information from the CPSTF@cdc.gov mailbox. Additional logistical information regarding this virtual meeting will be available on the Community Guide website (www.thecommunityguide.org) closer to the date of the meeting.

Public Comment: Individuals who would like to make public comments for the June meeting must indicate their desire to do so with their registration by providing their name, organizational affiliation, and the topic to be addressed (if known). The requestor will receive instructions for the public comment process for this virtual meeting after the request is received. A public comment period follows the CPSTF's discussion of each systematic review and is limited to one minute per person. Public comments will become part of the meeting summary.

Background on the CPSTF: The CPSTF is an independent, nonfederal panel whose members are appointed by the CDC Director. CPSTF members represent a broad range of research, practice, and policy expertise in prevention, wellness, health promotion, and public health. The CPSTF was convened in 1996 by the Department of Health and Human Services (HHS) to identify community preventive programs, services, and policies that increase healthy longevity, save lives and dollars, and improve Americans' quality of life. CDC is mandated to provide ongoing administrative, research, and technical support for the operations of the CPSTF. During its meetings, the CPSTF considers the findings of systematic reviews on existing research and practice-based evidence and issues recommendations. CPSTF recommendations are not mandates for compliance or spending. Instead, they provide information about evidence-based options that decision makers and stakeholders can consider when they are determining what best meets the specific needs, preferences, available resources, and constraints of their jurisdictions and constituents. The CPSTF's recommendations, along with the systematic reviews of the evidence on which they are based, are compiled in the The Community Guide.

Matters proposed for discussion: Information regarding any changes to the start and end times for the meeting, if required, and the agenda topics will be available on the Community Guide website (www.thecommunityguide.org) closer to the dates of the meeting.

The meeting agendas are subject to change without notice.

All meeting attendees must register by the dates outlined under Meeting Accessability.

Dated: April 21, 2020.
Sandra Cashman,
Executive Secretary, Centers for Disease Control and Prevention.

[FR Doc. 2020-08801 Filed 4-24-20; 8:45 am]

BILLING CODE 4163-18-P